DEPARTMENT OF COMMERCE

National Oceanic and Atmospheric Administration

[RTID 0648-XC408]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow commercial fishing vessels to fish outside fishery regulations in support of research conducted by the applicant. Regulations under the Magnuson-Stevens Fishery Conservation and Management Act require publication of this notification to provide interested parties the opportunity to comment on applications for proposed EFPs.

DATES: Comments must be received on or before March 2, 2023.

ADDRESSES: You may submit written comments by any of the following methods:

• Email: nmfs.gar.efp@noaa.gov. Include in the subject line “High-Volume Intelligent Discard Chute EM EFP.”

FOR FURTHER INFORMATION CONTACT: Samantha Tolken, Fishery Management Specialist, Samantha.Tolken@noaa.gov, 978-675-2176.

SUPPLEMENTARY INFORMATION: The applicant submitted a complete application for an EFP to conduct commercial fishing activities that the regulations would otherwise restrict. This EFP would exempt the participating vessels from the following Federal regulations:

Table 1—Requested Exemptions
Citation | Regulation | Need for exemption
50 CFR 648.80(a)(3)(i) | Gulf of Maine Regulated Mesh Area Minimum Mesh Size and Gear Restrictions | Conduct fishing with the use of 4.5-inch (11.4-cm) diamond mesh intended to facilitate the catch of redfish and 5.1-inch (13-cm) square mesh intended to facilitate the catch of haddock, in order to expand the predictive capabilities of the Artificial Intelligence (AI) program under varying catch compositions.
50 CFR 648.80(a)(4)(i) | Georges Bank Regulated Mesh Area Minimum Size and Gear Restrictions | Conduct fishing with the use of 4.5-inch (11.4-cm) diamond mesh intended to facilitate the catch of redfish and 5.1-inch (13-cm) square mesh intended to facilitate the catch of haddock, in order to expand the predictive capabilities of the AI program under varying catch compositions.
50 CFR 648.81(a)(5) | Closed Area II Closure Area | Conduct fishing in the non-habitat management area of Closed Area II Closure Area from April 16 through January 31 to vary the areas fished and catch compositions to expand the capability of the AI program and improve predictive power.

Table 2—Project Summary
Project title | High-Volume Audit (HVA) Electronic Monitoring (EM) for Groundfish Vessels Testing an Intelligent Discard Chute.
Applicant | A.I.S. Inc.
Project objectives | To develop and pilot an innovative solution for electronic monitoring (EM) based on wireless video transfer, edge-based AI processing via intelligent discard chute, and web-based video review to incentivize fleet adoption for high-volume groundfish trawl vessels.
Application date | 2/8/2023.
Project period | 5/1/2023-4/30/2024.
Project location | Gulf of Maine and Georges Bank.
Number of vessels | 4.
Number of trips | 130.
Trip duration (days) | 7-10 days.
Total number of days | 1,300.
Gear type(s) | Bottom trawl.
Number of tows or sets | 20-25 per trip.
Duration of tows or sets | 30 minutes-2 hours.

Project Narrative

The subject application would study the feasibility of deploying an intelligent discard chute with integrated artificial intelligence (AI) technology for catch accounting onboard high-volume groundfish trawl vessels. The project would determine the optimal design and workflow to minimize costs and maximize precision and accuracy of electronic monitoring (EM) data for size, species, and weight of regulatory discards. This research could significantly reduce the cost of EM programs for large, high-volume groundfish vessels if the intelligent discard chute and AI prove to be an accurate and reliable source for catch accounting. This information could also be used to develop a future High-Volume Audit (HVA) EM program for high-volume vessels, which could incentivize EM adoption in the region.

The subject application would allow up to four high-volume trawl sector vessels enrolled in the Audit Model EM program additional exemptions from 50 CFR 648.80(a)(3)(i) and (a)(4)(i) to conduct fishing using codends with diamond mesh as small as 4.5 inches (11.4 cm) to increase the catch of redfish in the Sector Redfish Exemption Area and conduct fishing using codends with square mesh as small as 5.1 inches (13 cm) to increase the catch of haddock in the Gulf of Maine and Georges Bank. The use of different mesh sizes and gears, leading to various catch compositions, will improve and expand the predictive capabilities of the AI program and the intelligent discard chute on high-volume vessels.

Additionally, vessels would be exempt from the non-habitat management area portion of the Closed Area II Closure Area, from April 16 through January 31, at 50 CFR 648.81(a)(5). This will allow vessel access to an additional fishing area, where catch compositions may differ. The opportunity to encounter varying catch composition will be used to further expand the AI program capabilities and predicative powers.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: February 9, 2023.
Jennifer M. Wallace,
Acting Director, Office of Sustainable Fisheries, National Marine Fisheries Service.

[FR Doc. 2023-03171 Filed 2-14-23; 8:45 am]

BILLING CODE 3510-22-P